DEPARTMENT OF ENERGY

Federal Energy Regulatory Commission

[Project No. 13204-000]

FFP Missouri 23, LLC; Notice of Preliminary Permit Applications Accepted for Filing and Soliciting Comments, Motions To Intervene, and Competing Applications

November 12, 2008.

On April 22, 2008, FFP Missouri 22, LLC each filed an application, pursuant to section 4(f) of the Federal Power Act, proposing to study the feasibility of the Missouri River 23 Project, to be located on the Missouri River in Saline and Carroll Counties, Missouri.

The proposed Missouri River 23 Project consists of: (1) 7,080 proposed 20 kilowatt Free Flow generating units having a total installed capacity of 141.6 megawatts, (2) a proposed transmission line, and (3) appurtenant facilities. The FFP Missouri 23, LLC, project would have an average annual generation of 620.21 gigawatt-hours and be sold to a local utility.

Applicant Contact: Mr. Dan Irvin, FFP Missouri 23, LLC, 69 Bridge Street, Manchester, MA 01944, phone (978) 232-3536.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13204) in the docket number field to access the document. For assistance, call toll-free 1-866-208-3372.

Kimberly D. Bose,
Secretary.

[FR Doc. E8-27371 Filed 11-18-08; 8:45 am]

BILLING CODE 6717-01-P